DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Logbook Family of Forms.

OMB Control Number: 0648-0016.

Form Number(s): None.

Type of Request: Regular submission (extension of a current information collection).

Number of Respondents: 3,484.

Average Hours per Response: Annual fixed-cost reports, 45 minutes; Colombian fishery logbooks, 18 minutes; discard logbooks, 15 minutes; headboat, golden crab, reef fish-mackerel, economic cost per trip, wreckfish, and shrimp logbooks, 10 minutes; no-fishing responses for golden crab, reef fish-mackerel, charter vessels, wreckfish and Colombian fisheries, 2 minutes.

Burden Hours: 16,908.

Needs and Uses: Catch and effort data are needed for scientific analyses that support critical conservation and management decisions that are made by national and international fishery management agencies. In addition, biologists need data on the amount of fish, marine mammals, and sea turtles that are caught or interacted with. This family of forms also includes the collection of cost-earning information and discards reported by fishermen.

Affected Public: small business or other for-profit organizations; individuals or Households with federal fishing permits.

Frequency: per fishing trip.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-18434 Filed 8-26-19; 8:45 am]

BILLING CODE 3510-22-P